DEPARTMENT OF HEALTH AND HUMAN SERVICES

Health Resources and Services Administration

Advisory Commission on Childhood Vaccines; Notice of Meeting

In accordance with section 10(a)(2) of the Federal Advisory Committee Act (Pub. L. 92-463), notice is hereby given of the following meeting:

Name: Advisory Commission on Childhood Vaccines (ACCV).

Date and Time: September 5, 2013, 10:00 a.m. to 4:00 p.m. EDT.

Place: Audio Conference Call and Adobe Connect Pro.

The ACCV will meet on Thursday, September 5 from 10:00 a.m. to 4:00 p.m. (EDT). The public can join the meeting by:

1. (Audio Portion) Calling the conference Phone Number 800-369-3104 and providing the following information:

Leaders Name: Dr. Vito Caserta

Password: ACCV

2. (Visual Portion) Connecting to the ACCV Adobe Connect Pro Meeting using the following URL: https://hrsa.connectsolutions.com/accv/ (copy and paste the link into your browser if it does not work directly, and enter as a guest). Participants should call and connect 15 minutes prior to the meeting in order for logistics to be set up. If you have never attended an Adobe Connect meeting, please test your connection using the following URL:

https://hrsa.connectsolutions.com/common/help/en/support/meeting_test.htm and get a quick overview by following URL: http://www.adobe.com/go/connectpro_overview.

Call (301) 443-6634 or send an email to aherzog@hrsa.gov if you are having trouble connecting to the meeting site.

Agenda: The agenda items for the September meeting will include, but are not limited to, updates from the Division of Vaccine Injury Compensation (DVIC); Department of Justice (DOJ); National Vaccine Program Office (NVPO); Immunization Safety Office (Centers for Disease Control and Prevention); National Institute of Allergy and Infectious Diseases (National Institutes of Health); and Center for Biologics, Evaluation and Research (Food and Drug Administration). A draft agenda and additional meeting materials will be posted on the ACCV Web site (http://www.hrsa.gov/vaccinecompensation/accv.htm) prior to the meeting. Agenda items are subject to change as priorities dictate.

Public Comment: Persons interested in providing an oral presentation should submit a written request, along with a copy of their presentation to: Annie Herzog, DVIC, Healthcare Systems Bureau (HSB), Health Resources and Services Administration (HRSA), Room 11C-26, 5600 Fishers Lane, Rockville, MD 20857 or email: aherzog@hrsa.gov. Requests should contain the name, address, telephone number, email address, and any business or professional affiliation of the person desiring to make an oral presentation. Groups having similar interests are requested to combine their comments and present them through a single representative. The allocation of time may be adjusted to accommodate the level of expressed interest. DVIC will notify each presenter by email, mail or telephone of their assigned presentation time. Persons who do not file an advance request for a presentation, but desire to make an oral statement, may announce it at the time of the public comment period. Public participation and ability to comment will be limited to space and time as it permits.

FOR FURTHER INFORMATION CONTACT: Anyone requiring information regarding the ACCV should contact Annie Herzog, DVIC, HSB, HRSA, Room 11C-26, 5600 Fishers Lane, Rockville, MD 20857; Telephone (301) 443-6593 or email: aherzog@hrsa.gov.

Dated: August 7, 2013.
Bahar Niakan,
Director, Division of Policy and Information Coordination.

[FR Doc. 2013-19576 Filed 8-12-13; 8:45 am]

BILLING CODE 4165-15-P